DEPARTMENT OF LABOR

Occupational Safety and Health Administration

[Docket No. OSHA-2015-0005]

Federal Advisory Council on Occupational Safety and Health (FACOSH)

AGENCY: Occupational Safety and Health Administration (OSHA), Labor.

ACTION: Announcement of the renewal of the FACOSH charter and appointment of new members to FACOSH.

SUMMARY: The Secretary of Labor has renewed the FACOSH charter and appointed six individuals to serve on FACOSH.

FOR FURTHER INFORMATION CONTACT: For press inquiries: Mr. Frank Meilinger, Director, OSHA Office of Communications, Room N-3647, U.S. Department of Labor, 200 Constitution Avenue NW., Washington, DC 20210; telephone (202) 693-1999; email meilinger.francis2@dol.gov.

For general information: Mr. Francis Yebesi, Director, OSHA Office of Federal Agency Programs, N-3622, U.S. Department of Labor, 200 Constitution Avenue NW., Washington, DC 20210; telephone (202) 693-2233; email yebesi.francis@dol.gov.

SUPPLEMENTARY INFORMATION:

Renewal of FACOSH Charter

On September 30, 2015, President Barack Obama signed Executive Order (E.O.) 13708 continuing certain federal advisory committees, including FACOSH, until September 30, 2017 (80 FR 60271 (10/15/2015)). In response, the Secretary of Labor (Secretary) renewed and filed the FACOSH charter on October 14, 2015. FACOSH will terminate on September 30, 2017, unless the President continues the committee. (The FACOSH charter is available to read or download on the FACOSH page on OSHA's Web page at http://www.osha.gov.)

FACOSH is authorized by 5 U.S.C. 7902, section 19 of the Occupational Safety and Health Act of 1970 (OSH Act) (29 U.S.C. 668), and E.O. 11612, as amended, to advise the Secretary on all matters relating to the occupational safety and health of federal employees. This includes providing advice on how to reduce and keep to a minimum the number of injuries and illnesses in the federal workforce and how to encourage each federal Executive Branch department and agency to establish and maintain effective occupational safety and health programs.

Appointment of FACOSH Members

FACOSH is comprised of 16 members; eight who represent federal agency management and eight from labor organizations that represent federal employees. The Secretary has appointed or re-appointed the following individuals to serve on FACOSH:

Federal employee representatives:

• Mr. William Dougan, National Federation of Federal Employees (Reappointment). Term expires December 31, 2018;

• Ms. Nan Thompson Ernst, American Federation of State, County and Municipal Employees. Term expires December 31, 2016;

• Ms. Deborah Kleinberg, Seafarers International Union (Reappointment). Term expires December 31, 2018; and

• Ms. Irma Westmoreland, National Nurses United (Reappointment). Term expires December 31, 2018.

Federal agency management representatives:

• Mr. Gregory Parham, U.S. Department of Agriculture (Reappointment). Term expires December 31, 2018; and

• Mr. Charles Rosenfarb, U.S Department of State. Term expires December 31, 2018.

Authority and Signature

David Michaels, Ph.D., MPH, Assistant Secretary of Labor for Occupational Safety and Health, directed the preparation of this notice pursuant to 5 U.S.C. 7902; 5 U.S.C. App. 2; 29 U.S.C. 668; E.O. 13708 (80 FR 60271 (10/5/2015) and 12196 (45 CFR 12629 (2/27/1980)); 41 CFR part 102-3; and Secretary of Labor's Order No. 1-2012 (77 FR 3912 (1/25/2012)).

Signed at Washington, DC, on November 19, 2015.
David Michaels,
Assistant Secretary of Labor for Occupational Safety and Health.

[FR Doc. 2015-29905 Filed 11-23-15; 8:45 am]

BILLING CODE 4510-26-P